DEPARTMENT OF TRANSPORTATION

Federal Aviation Administration

Ninth Meeting: RTCA Special Committee 230 (SC-230) Airborne Weather Detection Systems (Joint With WG-95 Inflight Ice Long Range Awareness Systems' Fourth Meeting)

AGENCY: Federal Aviation Administration (FAA), U.S. Department of Transportation (DOT).

ACTION: Notice of Ninth RTCA Special Committee 230 Meeting.

SUMMARY: The FAA is issuing this notice to advise the public of the Ninth RTCA Special Committee 230 meeting.

DATES: The meeting will be held June 28-30, 2016 from 9:00 a.m.-5:00 p.m.

ADDRESSES: The meeting will be held at Boeing Everett Facility, Building 40-88, 3003 W. Casino Road, Everett, WA 98204.

FOR FURTHER INFORMATION CONTACT: The RTCA Secretariat, 1150 18th Street NW., Suite 910, Washington, DC 20036, or by telephone at (202) 833-9339, fax at (202) 833-9434, or Web site at http://www.rtca.org or Karan Hofmann, Program Director, RTCA, Inc., khofmann@rtca.org, (202) 330-0680; Bob Darby, bob.darby@eurocae.net, +33 1 40 92 79 26; Luke Tschacher, Luke.A.Tschacher@boeing.com; or Camille CARUHEL, camille.caruhel@airbus.com.

SUPPLEMENTARY INFORMATION: Pursuant to section 10(a)(2) of the Federal Advisory Committee Act (Pub. L. 92-463, 5 U.S.C., App.), notice is hereby given for a meeting of RTCA Special Committee 230. The agenda will include the following:

Tuesday, June 28, 2016

1. Introduction for the WG95-SG (9:00 a.m.-9:30 a.m.)

2. PLENARY MEETING (9:30 a.m.-10:00 a.m.)

3. WG95-SG MEETING (10:00 a.m.-5:00 p.m.)

a. Review of the Actions

b. Review of the document and the work plan

c. Evaluation of the X-Band Radar performance (from 18″ antenna)

d. Review of the HMI evaluations performed by all the participants

Wednesday, June 29, 2016

1. WG95-SG MEETING (9:00 a.m.-5:00 p.m.)

a. Assessment of the required alert threshold and the associated operational procedures

b. Preliminary proposal for HMI standardization (to be validated for October meeting)

Friday, June 30, 2016

1. PLENARY MEETING (9:00 a.m.-10:00 a.m.)

a. Review of the Progress

b. Discussion on common Actions

2. WG95-SG (10:00 a.m.-3:00 p.m.)

a. Update of the Feasibility study report

b. Meeting wrap-up (update of action list, next meeting scheduling)

3. Conclusion

Attendance is open to the interested public but limited to space availability. If you plan to attend, please email by June 14, 2016. With the approval of the chairman, members of the public may present oral statements at the meeting. Plenary information will be provided upon request. Persons who wish to present statements or obtain information should contact the person listed in the FOR FURTHER INFORMATION CONTACT section. Members of the public may present a written statement to the committee at any time.

Issued in Washington, DC, on May 12, 2016.
Latasha Robinson,
Management & Program Analyst, NextGen, Enterprise Support Services Division, Federal Aviation Administration.

[FR Doc. 2016-12124 Filed 5-20-16; 8:45 am]

BILLING CODE 4910-13-P